DEPARTMENT OF ENERGY

Federal Energy Regulatory Commission

[Docket Nos. EG06-11-000, et al.]

Casselman Windpower, LLC, et al.; Electric Rate and Corporate Filings

November 29, 2005.

The following filings have been made with the Commission. The filings are listed in ascending order within each docket classification.

1. Casselman Windpower, LLC.

[Docket No. EG06-11-000]

Take notice that on November 22, 2005, Casselman Windpower LLC (Casselman), hereby submits an application for determination of exempt wholesale generator status.

Casselman states that it is developing and will construct, own and operate an approximately 40 MW wind power generation facility located in Summit Township, Somerset County, Pennsylvania. Casselman further states that it will be engaged directly and exclusively in the business of owning and operating all or part of one or more eligible facilities, and selling electric energy at wholesale.

Comment Date: 5 p.m. Eastern Time on December 13, 2005.

2. Bank of America, N.A.

[Docket No. EL02-130-000]

Take notice that on November 14, 2005, Bank of America, N.A. (Bank of America) tendered for filing its report on holdings of public utility securities as of September 30, 2005. Bank of America states that due to an administrative oversight it failed to submit prior reports for each quarter since issuance of the June 5, 2003 and October 22, 2003 Orders and it is including Attachments B through H in compliance of these Orders.

Comment Date: 5 p.m. Eastern Time on December 8, 2005.

3. Consolidated Edison Company of New York, Inc.

[Docket No. EL05-123-002]

Take notice that on November 18, 2005, Consolidated Edison Company of New York, Inc., in compliance with 112 FERC ¶ 61,304 issued September 9, 2005, submits a refund report of refund payments made to the New York Power Authority.

Comment Date: 5 p.m. Eastern Time on December 9, 2005.

4. Prime Power Sales I, LLC.

[Docket No. ER05-982-002]

Take notice that on October 18, 2005, Prime Power Sales I, LLC (PPSI) tendered for filing a notice of change in status regarding the representations the Commission relied upon in granting PPSI market-based authority on July 14, 2005. PSSI states that it has changed it upstream ownership since the July 14 Order was issued.

Comment Date: 5 p.m. Eastern Time on December 7, 2005.

5. Xcel Energy Services Inc.

[Docket No. ER06-172-000]

Take notice that on November 3, 2005, Xcel Energy Services Inc. (XES) tendered for filing revised tariff sheets to the Xcel Energy Operating Companies Joint Open Access Transmission Tariff, First Revised Volume No. 1. XES states that these revised tariff sheets are being submitted on behalf of its operating companies Northern States Power Company—Minnesota and Northern States Power Company—Wisconsin and Southwestern Public Service Company.

Comment Date: 5 p.m. Eastern Time on December 7, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-6952 Filed 12-6-05; 8:45 am]

BILLING CODE 6717-01-P